DEPARTMENT OF DEFENSE

Office of the Secretary

Notice of Close Meeting

AGENCY: Defense Intelligence Agency, Joint Military Intelligence College.

ACTION: Notice of closed meeting.

SUMMARY: Pursuant to the provisions of Subsection (d) of section 10 of Public Law 92-463, as amended by section 5 of Public Law 94-409, notice is hereby given that a closed meeting of the DIA Joint Military Intelligence College Board of Visitors has been scheduled as follows:

DATES: Tuesday, 1 June 2004, 1100 to 1700; and Wednesday, 2 June 2004, 0800 to 1600.

ADDRESSES: Joint Military Intelligence College, Washington, DC 20340-5100.

FOR FURTHER INFORMATION CONTACT: Mr. A. Denis Clift, President, DIA Joint Military Intelligence College, Washington, DC 20340-5100 (202/231-3344).

SUPPLEMENTARY INFORMATION: The entire meeting is devoted to the discussion of classified information as defined in section 552b(c)(1), title 5 of the U.S. Code and therefore will be closed. The Board will discuss several current critical intelligence issues and advise the Director, DIA, as to the successful accomplishment of the mission assigned to the Joint Military Intelligence College.

Dated: April 28, 2004.
L.M. Bynum,
Alternate OSD Federal Register Officer, DOD.

[FR Doc. 04-10260 Filed 5-5-04; 8:45 am]

BILLING CODE 5001-06-M